DEPARTMENT OF HEALTH AND HUMAN SERVICES

National Institutes of Health

National Institute of Mental Health; Notice of Meeting

Pursuant to section 10(a) of the Federal Advisory Committee Act, as amended (5 U.S.C. App.), notice is hereby given of a meeting of the Subcommittee for Planning the Annual Strategic Plan Updating Process of the Interagency Autism Coordinating Committee (IACC).

The purpose of the Subcommittee meeting is to plan the process for updating the IACC Strategic Plan for Autism Spectrum Disorder Research. The meeting will be open to the public and will also be accessible by webinar and conference call.

Name of Committee: Interagency Autism Coordinating Committee (IACC).

Type of meeting: Subcommittee for Planning the Annual Strategic Plan Updating Process.

Date: October 6, 2010.

Time: 9 a.m. to 12 p.m. Eastern Time.

Agenda: To discuss plans for updating the IACC Strategic Plan for ASD Research.

Place: The National Institute of Mental Health, Neuroscience Center, 6001 Executive Boulevard, Conference Room 8120, Rockville, MD 20852.

Webinar Access: https://www2.gotomeeting.com/register/927802003.

Registration: http://www.acclaroresearch.com/oarc/10-06-10_IACC. Pre-registration is recommended to expedite check-in. Seating in the meeting room is limited to room capacity and on a first come, first served basis.

Conference Call: Dial: 888-848-6715, Access code: 5341736.

Contact Person: Ms. Lina Perez, Office of Autism Research Coordination, Office of the Director, National Institute of Mental Health, NIH, 6001 Executive Boulevard, NSC, Room 8200, Bethesda, MD 20892-9669, Phone: (301) 443-6040, E-mail: IACCPublicInquiries@mail.nih.gov.

Please Note: The meeting will be open to the public and accessible via webinar and conference call. Members of the public who participate using the conference call phone number will be able to listen to the meeting but will not be heard. If you experience any technical problems with the conference call, please-mail IACCTechSupport@acclaroresearch.com.

If you experience any technical problems with the web presentation tool, please contact GoToWebinar at (800) 263-6317. To access the web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Individuals who participate in person or by using these electronic services and who need special assistance, such as captioning of the conference call or other reasonable accommodations, should submit a request to the Contact Person listed on this notice at least 7 days prior to the meeting.

This notice is being published less than 15 days prior to the meeting due to the urgent need for the Subcommittee to discuss the upcoming update of the IACC Strategic Plan prior to the IACC meeting scheduled for October 22, 2010.

Schedule is subject to change.

Information about the IACC is available on the Web site: http://www.iacc.hhs.gov.

Dated: September 22, 2010.
Jennifer S. Spaeth,
Director, Office of Federal Advisory Committee Policy.

[FR Doc. 2010-24280 Filed 9-27-10; 8:45 am]

BILLING CODE 4140-01-P